DEPARTMENT OF ENERGY

Federal Energy Regulatory Commission

Combined Notice of Filings #1

Take notice that the Commission received the following electric corporate filings:

Docket Numbers: EC12-54-000.

Applicants: Rensselaer Holdings, LLC, Rensselaer Cogeneration LLC.

Description: Application of Rensselaer Holdings, LLC and Rensselaer Cogeneration LLC for Authorization of a Transaction.

Filed Date: 12/20/11.

Accession Number: 20111220-5167.

Comments Due: 5 p.m. ET 1/10/12.

Take notice that the Commission received the following exempt wholesale generator filings:

Docket Numbers: EG12-21-000.

Applicants: California Ridge Wind Energy LLC.

Description: Notice of Self-Certification of Exempt Wholesale Generator Status of California Ridge Wind Energy LLC.

Filed Date: 12/21/11.

Accession Number: 20111221-5113.

Comments Due: 5 p.m. ET 1/11/12.

Take notice that the Commission received the following electric rate filings:

Docket Numbers: ER10-1526-001; ER10-1525-001.

Applicants: KGen Hinds LLC, KGen Hot Spring LLC.

Description: Market Power Update of KGen Hinds LLC and KGen Hot Spring LLC.

Filed Date: 12/21/11.

Accession Number: 20111221-5178.

Comments Due: 5 p.m. ET 2/21/12.

Docket Numbers: ER12-643-000.

Applicants: Hafslund Energy Trading LLC.

Description: Filing to revise MBR to be effective 12/21/2011.

Filed Date: 12/20/11.

Accession Number: 20111220-5108.

Comments Due: 5 p.m. ET 1/10/12.

Docket Numbers: ER12-644-000.

Applicants: PacifiCorp.

Description: Revised Network Integration Transmission Service Agreements to be effective 1/1/2012.

Filed Date: 12/20/11.

Accession Number: 20111220-5133.

Comments Due: 5 p.m. ET 1/10/12.

Docket Numbers: ER12-645-000.

Applicants: California Ridge Wind Energy LLC.

Description: Application for Market-Based Rate Authorization & Request for Waivers & Approval to be effective 2/20/2012.

Filed Date: 12/21/11.

Accession Number: 20111221-5109.

Comments Due: 5 p.m. ET 1/11/12.

Docket Numbers: ER12-646-000.

Applicants: California Independent System Operator Corporation.

Description: 2011-12-21 Second Amended MSSA with City of Vernon to be effective 1/1/2012.

Filed Date: 12/21/11.

Accession Number: 20111221-5114.

Comments Due: 5 p.m. ET 1/11/12.

Docket Numbers: ER12-646-000.

Applicants: California Independent System Operator Corporation.

Description: 2011-12-21 Second Amended MSSA with City of Vernon to be effective 1/1/2012.

Filed Date: 12/21/11.

Accession Number: 20111221-5115.

Comments Due: 5 p.m. ET 1/11/12.

Docket Numbers: ER12-647-000.

Applicants: PacifiCorp.

Description: Revised Non-Conforming Long Term Firm Point to Point Agreements to be effective 1/1/2012.

Filed Date: 12/21/11.

Accession Number: 20111221-5116.

Comments Due: 5 p.m. ET 1/11/12.

Docket Numbers: ER12-648-000.

Applicants: Interstate Power and Light Company.

Description: IPL and DPC—LBAAOC Agreement to be effective 12/1/2011.

Filed Date: 12/21/11.

Accession Number: 20111221-5121.

Comments Due: 5 p.m. ET 1/11/12.

Docket Numbers: ER12-649-000.

Applicants: Wisconsin Power and Light Company.

Description: WPL and DPC—LBAAOC Agreement to be effective 12/1/2011.

Filed Date: 12/21/11.

Accession Number: 20111221-5127.

Comments Due: 5 p.m. ET 1/11/12.

Docket Numbers: ER12-650-000.

Applicants: New York Independent System Operator, Inc.

Description: NYISO 205 Filing of Amendments to the Market Monitoring Plan to be effective 2/22/2012.

Filed Date: 12/21/11.

Accession Number: 20111221-5151.

Comments Due: 5 p.m. ET 1/11/12.

Docket Numbers: ER12-651-000.

Applicants: Alabama Power Company.

Description: Black Warrior NITSA Amendment (Revising Distribution Facilities Charge) to be effective 8/1/2011.

Filed Date: 12/21/11.

Accession Number: 20111221-5161.

Comments Due: 5 p.m. ET 1/11/12.

Docket Numbers: ER12-652-000.

Applicants: EWO Marketing, LLC.

Description: Notice of Succession and Conforming Agreements to be effective 11/30/2011.

Filed Date: 12/21/11.

Accession Number: 20111221-5179.

Comments Due: 5 p.m. ET 1/11/12.

Docket Numbers: ER12-653-000.

Applicants: Arizona Public Service Company.

Description: Service Agreement No. 319; Interconnection Agreement between ANPP and AVSE II to be effective 12/15/2011.

Filed Date: 12/21/11.

Accession Number: 20111221-5181.

Comments Due: 5 p.m. ET 1/11/12.

Docket Numbers: ER12-654-000.

Applicants: Baltimore Gas and Electric Company.

Description: Change in Category Status to be effective 1/1/2012.

Filed Date: 12/21/11.

Accession Number: 20111221-5183.

Comments Due: 5 p.m. ET 1/11/12.

Docket Numbers: ER12-655-000.

Applicants: Handsome Lake Energy, LLC.

Description: Change in Category Status to be effective 1/1/2012.

Filed Date: 12/21/11.

Accession Number: 20111221-5185.

Comments Due: 5 p.m. ET 1/11/12.

Docket Numbers: ER12-656-000.

Applicants: Calvert Cliffs Nuclear Power Plant, LLC.

Description: Change in Category Status to be effective 1/1/2012.

Filed Date: 12/21/11.

Accession Number: 20111221-5186.

Comments Due: 5 p.m. ET 1/11/12.

Docket Numbers: ER12-657-000.

Applicants: Nine Mile Point Nuclear Station, LLC.

Description: Change in Category Status to be effective 1/1/2012.

Filed Date: 12/21/11.

Accession Number: 20111221-5190.

Comments Due: 5 p.m. ET 1/11/12.

Docket Numbers: ER12-658-000.

Applicants: R.E. Ginna Nuclear Power Plant, LLC.

Description: Change in Category Status to be effective 1/1/2012.

Filed Date: 12/21/11.

Accession Number: 20111221-5198.

Comments Due: 5 p.m. ET 1/11/12.

Docket Numbers: ER12-659-000.

Applicants: Baconton Power LLC.

Description: Baconton Power LLC submits tariff filing per 35.37: Updated Market Power Analysis to be effective 12/22/2011.

Filed Date: 12/21/11.

Accession Number: 20111221-5211.

Comments Due: 5 p.m. ET 1/11/12.

Docket Numbers: ER12-660-000.

Applicants: San Diego Gas & Electric Company.

Description: San Diego Gas & Electric Company submits tariff filing per 35.13(a)(2)(iii): 2012 SDGE TRBAA TACBAA Update to Transmission Owner Filing to be effective 1/1/2012.

Filed Date: 12/21/11.

Accession Number: 20111221-5216.

Comments Due: 5 p.m. ET 1/11/12.

Docket Numbers: ER12-661-000.

Applicants: Constellation Power Source Generation, Inc.

Description: Constellation Power Source Generation, Inc. submits tariff filing per 35: Change in Category Status to be effective 1/1/2012.

Filed Date: 12/21/11.

Accession Number: 20111221-5217.

Comments Due: 5 p.m. ET 1/11/12.

Take notice that the Commission received the following qualifying facility filings:

Docket Numbers: QF12-106-000.

Applicants: City of Elizabeth City, NC.

Description: City of Elizabeth City, NC submits FERC Form 556 Notice of Certification of Qualifying Facility Status for a Small Power Production or Cogeneration Facility.

Filed Date: 12/19/11.

Accession Number: 20111219-5218.

Comment Date: None Applicable.

The filings are accessible in the Commission's eLibrary system by clicking on the links or querying the docket number.

Any person desiring to intervene or protest in any of the above proceedings must file in accordance with Rules 211 and 214 of the Commission's Regulations (18 CFR 385.211 and 385.214) on or before 5 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 21, 2011.
Nathaniel J. Davis, Sr.,
Deputy Secretary.

[FR Doc. 2011-33533 Filed 12-29-11; 8:45 am]

BILLING CODE 6717-01-P